DEPARTMENT OF DEFENSE

Department of the Air Force

[Docket ID USAF-2008-0057]

Privacy Act of 1974; System of Records

AGENCY: Department of the Air Force, DoD.

ACTION: Notice to alter a System of Records.

SUMMARY: The Department of the Air Force is proposing to alter a system of records notice in its existing inventory of record systems subject to the Privacy Act of 1974, (5 U.S.C. 552a), as amended.

DATES: This proposed action will be effective without further notice on January 29, 2009 unless comments are received which result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force systems of records notices subject to the Privacy Act of 1974, (5 U.S.C. 552a), as amended, have been published in the Federal Register and are available from the address above.

The proposed system report, as required by 5 U.S.C. 552a(r) of the Privacy Act of 1974, as amended, was submitted on December 17, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 18, 2008.
Morgan E. Frazier,
Alternate OSD Federal Register Liaison Officer, Department of Defense.

F051 AFJA B

System name:

Invention, Patent Application, Application Security, and Patent Files (June 11, 1997, 62 FR 31793).

Changes:

* * * * *

System location:

Delete entry and replace with “Air Force Materiel Command Legal Office, Intellectual Property Law Division (AFMC LO/JAZ), 2240 B Street, Room 100, Wright-Patterson Air Force Base, OH 45433-5762; 377 Air Base Wing, Office of the Staff Judge Advocate (377ABW/JA), 2000 Wyoming Boulevard, SE, Kirtland Air Force Base, NM 87117-5000; Air Force Research Laboratory, Research and Information Directorate, Office of the Staff Judge Advocate (AFRL/RIJ), 26 Electronic Parkway, Rome, NY 13441-4514; Air Force Legal Operations Agency/JACQ, 1501 Wilson Boulevard, Ste 606, Arlington, VA 22209-2403.”

Categories of individuals covered by the system:

Delete entry and replace with “Individuals who have submitted an invention to the Air Force for patent processing and/or for a determination of government rights or who have submitted information pertaining to trademark or copyright applications.”

Categories of records in the system:

Delete entry and replace with “Full name, Social Security Number (SSN), title of invention, Air Force invention number, serial numbers of the U.S. Patent application, letters and memoranda; invention disclosures; search reports; drawings; technical literature; technical reports; photographs, patents and patent applications; patented files and the papers relating thereto including licenses, assignments, declarations, powers of attorney, amendments, patent office actions, notices of appeal, appeal briefs, examiner's answers, declarations of interference, interference motions; determination of rights, forms, secrecy orders, notices of rescission, memorandums, legal opinions; security reviews, petitions to modify secrecy orders, petitions for foreign filing, petitions for rescinding secrecy orders, modifications of secrecy orders, foreign patent applications and related papers, permits, rescinding orders, trademark files and papers relating to trademark search reports, trademark applications, trademark licenses, assignments; copyright files and related papers.”

Authority for maintenance of the system:

Delete entry and replace with “10 U.S.C. 8013, Secretary of the Air Force; 10 U.S.C. 8037, Judge Advocate General, Deputy Judge Advocate General; 35 U.S.C. 181-185, Secrecy of Certain Inventions and Filing Applications in Foreign Countries; Air Force Instruction 51-301, Civil Litigation and E.O. 9397 (SSN).”

Purpose(s):

Delete entry and replace with “Used to support the filing and prosecution by the Air Force of Trademark and Patent Applications on inventions disclosed by military members and civilian employees as well as subject inventions reported by contractors under Air Force research and development contracts for obtaining government patent protection; to permit the determination of the government rights and employee rights in employee inventions; to document and record the patent rights of the government obtained as a result of the Air Force contracting and patent prosecution effort; to enable the Air Force to administer the Patent Secrecy Act; to evaluate inventions and patent inventions of most importance to the mission; to recommend employee invention and patent awards to local incentive award boards; to document and record government patent rights; and for all copyright matters.”

Routine uses of records maintained in the system, including categories of users and the purposes of such uses:

Delete entry and replace with “In addition to those disclosures generally permitted under 5 U.S.C. 552a(b) of the Privacy Act, these records or information contained therein may specifically be disclosed outside the DoD as a routine use pursuant to 5 U.S.C. 552a(b)(3) as follows:

Records may be disclosed to the Commissioner of Patents and Trademarks for use in the determination of government and employee rights in employee inventions and for use in the administration of the Patent Secrecy Act.

The `Blanket Routine Uses' published at the beginning of the Air Force's compilation of systems of records notices apply to this system.”

* * * * *

Storage:

Delete entry and replace with “Maintained in file folders and on electronic storage media.”

Retrievability:

Delete entry and replace with “By individual's name and/or Social Security Number (SSN).”

Safeguards:

Delete entry and replace with “Records are accessed by authorized personnel as necessary to accomplish their official duties. Paper records are stored in security file containers/cabinets and safes. Computer records have access controls, to include password protection and encryption.”

Retention and disposal:

Delete entry and replace with “Invention disclosures are retained in office files for five years after evaluation completion, then retired to 88 CG/SCQIDS, Wright-Patterson Air Force Base, OH 45433-5762 for retention for up to 15 years thereafter.

Patent application and patented files are retained in office files for three years after case(s) abandoned or after patent issued, then retired to 88 CG/SCQIDS, Wright-Patterson Air Force Base, OH 45433-5762, for retention up to 17 years thereafter.

Licenses and assignments are retained in office files for 20 years after executed.

Trademark and Copyright License and assignments are retained in office files.

Security records on patent applications are retained in office files for three years after secrecy orders are rescinded, then retired to 88 CG/SCQIDS, Wright-Patterson Air Force Base, OH 45433-5762, for retention for up to 9 years.

All paper records are destroyed by tearing into pieces, shredding, pulping, macerating, or burning. Computer records are destroyed by deleting, erasing, degaussing, or by overwriting.”

System manager(s) and address:

Delete entry and replace with “The Judge Advocate General, Headquarters, United States Air Force, 1420 Air Force Pentagon, Washington, DC 20330-1420.”

Notification procedure:

Delete entry and replace with “Individuals seeking to determine whether information about themselves is contained in this system should address written inquiries to The Judge Advocate General, Headquarters, United States Air Force, 1420 Air Force Pentagon, Washington, DC 20330-1420 or the Chief, Intellectual Property Law Division, Air Force Materiel Command Legal Office (AFMC LO/JAZ), Wright-Patterson Air Force Base, OH 45433-5762.

Individuals should supply full name, title of invention, Air Force invention number, if known, and serial number of U.S. Patent Application.”

Record access procedures:

Delete entry and replace with “Individuals seeking access to information about themselves contained in this system should address written inquiries to The Judge Advocate General, Headquarters United States Air Force, 1420 Air Force Pentagon, Washington, DC 20330-1420 or the Chief, Intellectual Property Law Division, Air Force Materiel Command Legal Office (AFMC LO/JAZ), Wright-Patterson Air Force Base, OH 45433-5762.

Individuals should supply full name, title of invention, Air Force invention number, if known, and serial number of U.S. Patent Application.”

Contesting record procedures:

Delete entry and replace with “The Air Force rules for accessing records, and for contesting contents and appealing initial agency determinations are published in Air Force Instruction 33-332; 32 CFR part 806b; or may be obtained from the system manager.”

* * * * *

F051 AFJA B

System name:

Invention, Patent Application, Application Security, and Patent Files.

System location:

Air Force Materiel Command Legal Office, Intellectual Property Law Division (AFMC LO/JAZ), 2240 B Street, Room 100, Wright-Patterson Air Force Base, OH 45433-5762; 377 Air Base Wing, Office of the Staff Judge Advocate (377ABW/JA), 2000 Wyoming Boulevard, SE, Kirtland Air Force Base, NM 87117-5000; Air Force Research Laboratory, Research and Information Directorate, Office of the Staff Judge Advocate (AFRL/RIJ), 26 Electronic Parkway, Rome, NY 13441-4514; Air Force Legal Operations Agency/JACQ, 1501 Wilson Boulevard, Ste. 606, Arlington, VA 22209-2403.

Categories of individuals covered by the system:

Individuals who have submitted an invention to the Air Force for patent processing and/or for a determination of government rights or who have submitted information pertaining to trademark or copyright applications.

Categories of records in the system:

Full name, Social Security Number (SSN), title of invention, Air Force invention number, serial numbers of the U.S. Patent application, letters and memoranda; invention disclosures; search reports; drawings; technical literature; technical reports; photographs, patents and patent applications; patented files and the papers relating thereto including licenses, assignments, declarations, power of attorneys, amendments, patent office actions, notices of appeal, appeal briefs, examiner's answers, declaration of interferences, interference motions; determination of rights, forms, secrecy orders, notices of rescission, memorandums, legal opinions; security reviews, petitions to modify secrecy orders, petitions for foreign filing, petitions for rescinding secrecy orders, modifications of secrecy orders, foreign patent applications and related papers, permits, rescinding orders, trademark files and papers relating to trademark search reports, trademark applications, trademark licenses, assignments; copyright files and related papers.

Authority for maintenance of the system:

10 U.S.C. 8013, Secretary of the Air Force; 10 U.S.C. 8037, Judge Advocate General, Deputy Judge Advocate General; 35 U.S.C. 181-185, Secrecy of Certain Inventions and Filing Applications in Foreign Countries; Air Force Instruction 51-301, Civil Litigation and E.O. 9397 (SSN).

Purpose(s):

Used to support the filing and prosecution by the Air Force of Trademark and Patent Applications on inventions disclosed by military members and civilian employees as well as subject inventions reported by contractors under Air Force research and development contracts for obtaining government patent protection; to permit the determination of the government rights and employee rights in employee inventions; to document and record the patent rights of the government obtained as a result of the Air Force contracting and patent prosecution effort; to enable the Air Force to administer the Patent Secrecy Act; to evaluate inventions and patent inventions most important to the mission; to recommend employee invention and patent awards to local incentive award boards; to document and record government patent rights; and for all copyright matters.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Records may be disclosed to the Commissioner of Patents and Trademarks for use in the determination of government and employee rights in employee inventions and for use in the administration of the Patent Secrecy Act.

The `Blanket Routine Uses' published at the beginning of the Air Force's compilation of systems of records notices apply to this system.

Policies and practices for storing, retrieving, accessing, retaining, and disposing of records in the system:

Storage:

Maintained in file folders and on electronic storage media.

Retrievability:

By individual's name and/or Social Security Number (SSN).

Safeguards:

Records are accessed by authorized personnel as necessary to accomplish their official duties. Paper records are stored in security file containers/cabinets and safes. Computer records have access controls, to include password protection and encryption.

Retention and disposal:

Invention disclosures are retained in office files for five years after evaluation completion, then retired to 88 CG/SCQIDS, Wright-Patterson Air Force Base, OH 45433-5762 for retention for up to 15 years thereafter.

Patent application and patented files are retained in office files for three years after case(s) abandoned or after patent issued, then retired to 88 CG/SCQIDS, Wright-Patterson Air Force Base, OH 45433-5762, for retention up to 17 years thereafter.

Licenses and assignments are retained in office files for 20 years after executed.

Trademark and Copyright License and assignments are retained in office files.

Security records on patent applications are retained in office files for three years after secrecy orders are rescinded, then retired to 88 CG/SCQIDS, Wright-Patterson Air Force Base, OH 45433-5762, for retention for up to 9 years.

All paper records are destroyed by tearing into pieces, shredding, pulping, macerating, or burning. Computer records are destroyed by deleting, erasing, degaussing, or by overwriting.

System manager(s) and address:

The Judge Advocate General, Headquarters United States Air Force, 1420 Air Force Pentagon, Washington, DC 20330-1420.

Notification procedure:

Individuals seeking to determine whether information about themselves is contained in this system should address written inquiries to The Judge Advocate General, Headquarters United States Air Force, 1420 Air Force Pentagon, Washington, DC 20330-1420 or the Chief, Intellectual Property Law Division, Air Force Materiel Command Legal Office (AFMC LO/JAZ), Wright-Patterson Air Force Base, OH 45433-5762.

Individuals should supply full name, title of invention, Air Force invention number, if known, and serial number of U.S. Patent Application.

Record access procedures:

Individuals seeking access to information about themselves contained in this system should address written inquiries to The Judge Advocate General, Headquarters United States Air Force, 1420 Air Force Pentagon, Washington, DC 20330-1420 or the Chief, Intellectual Property Law Division, Air Force Materiel Command Legal Office (AFMC LO/JAZ), Wright-Patterson Air Force Base, OH 45433-5762.

Individuals should supply full name, title of invention, Air Force invention number, if known, and serial number of U.S. Patent Application.

Contesting record procedures:

The Air Force rules for accessing records, and for contesting contents and appealing initial agency determinations are published in Air Force Instruction 33-332; 32 CFR part 806b; or may be obtained from the system manager.

Record source categories:

From inventors; Air Force and government technical personnel; other government departments and agencies; Air Force contractors; U.S. Patent and Trademark Office; the work product of legal offices and other Air Force office security reviews conducted by Department of Air Force personnel having military classification authority; owners of patent applications; foreign governments; and Air Force Foreign Intelligence Personnel.

Exemptions claimed for the system:

None.

[FR Doc. E8-30870 Filed 12-29-08; 8:45 am]

BILLING CODE 5001-06-P